DEPARTMENT OF ENERGY

Federal Energy Regulatory Commission

[Docket No. CP04-102-000]

CenterPoint Energy Gas Transmission Company; Notice of Request Under Blanket Authorization

April 15, 2004.

Take notice that on April 7, 2004, CenterPoint Energy Gas Transmission Company (CEGT), 1111 Louisiana Street, Houston, Texas 77002-5231, filed in Docket No. CP04-102-000 a request pursuant to its blanket certificate issued September 1, 1982, and amended February 10, 1983, under Docket Nos. CP82-384-000 and CP82-384-001, for authority under section 157.211 of the Commission's regulations (18 CFR 157.211) to construct and operate a delivery tap in Sebastian County, Arkansas to deliver approximately 3,500 Dth/day (1,000,000 Dth annually) to the MacSteel Division of Quanex Corporation (MacSteel) under CEGT's Rate Schedule FT. The delivery tap will be constructed at an estimated cost of $110,774, which will be reimbursed by MacSteel, all as more fully set forth in the application which is on file with the Commission and open to public inspection.

Any questions regarding this application should be directed to Lawrence O. Thomas, Director-Rates & Regulatory, CenterPoint Energy Gas Transmission Company, P.O. Box 21734, Shreveport, Louisiana 71151, at (318) 429-2804 or fax (318) 429-3133.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see 18 CFR 385.2001(a)(1)(iii) and the instructions on the Commission's Web site under the “e-Filing” link. The Commission strongly encourages interveners to file electronically.

Any person or the Commission's staff may, within 45 days after issuance of the instant notice by the Commission, file pursuant to rule 214 of the Commission's procedural rules (18 CFR 385.214) a motion to intervene or notice of intervention and pursuant to section 157.205 of the regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to section 7 of the Natural Gas Act.

Comment Date: May 6, 2004.

Magalie R. Salas,
Secretary.

[FR Doc. E4-903 Filed 4-20-04; 8:45 am]

BILLING CODE 6717-01-P